NATIONAL AERONAUTICS AND SPACE ADMINISTRATION

48 CFR Parts 1801, 1808, 1811, 1813, 1816, 1819, 1835, 1842, 1851, and 1852

Procedural Revisions for Awards Resulting From Broad Agency Announcements

AGENCY: National Aeronautics and Space Administration (NASA).

ACTION: Final rule.

SUMMARY: This final rule amends the NASA FAR Supplement (NFS) to: allow grant officers to waive the submission of certain documents as part of the purchase request (PR) package for a grant; provide for the award of purchase orders, when appropriate, for awards less than the simplified acquisition threshold resulting from broad agency announcements; and make miscellaneous editorial and technical corrections.

EFFECTIVE DATE: July 31, 2000.

FOR FURTHER INFORMATION CONTACT: Tom Deback, NASA Headquarters Office of Procurement, Contract Management Division (Code HK), Washington, DC 20546, (202) 358-0431, e-mail: tdeback@hq.nasa.gov.

SUPPLEMENTARY INFORMATION:

A. Background

The newly revised Grant Handbook no longer requires the submission of the NASA Research Announcement (NRA), results of the technical evaluation, and other documents as part of the PR package. The revised guidance also provides that if an action resulting from a broad agency announcement is to be awarded as a contract action and is less than the simplified acquisition threshold, the action may be completed as a purchase order. This final rule brings the NFS into agreement with the Grant handbook. Additionally, miscellaneous editorial and technical corrections are made to sections 1801.106, 1808.002-72, 1811.1, 1819.7206, 1842.7001, 1852.242-73, and Parts 1816 and 1831 to update listing of OMB approvals; correct citations, terminology, and titles; and provide consistent guidance on clause modification.

B. Regulatory Flexibility Act

This final rule does not constitute a significant revision within the meaning of FAR 1.501 and Pub Law 98-577 and publication for comments is not required. However, NASA will consider comments from small entities concerning the affected NFS subparts in accordance with 5 U.S.C. 610.

C. Paperwork Reduction Act

The Paperwork Reduction Act does not apply because the changes to the NFS do not impose any recordkeeping or information collection requirements that require the approval of the Office of Management and Budget under 44 U.S.C. 3501, et seq.

List of Subjects in 48 CFR Parts 1801, 1808, 1811, 1813, 1816, 1819, 1835, 1842, 1851, and 1852

Government procurement.

Tom Luedtke,
Associate Administrator for Procurement.

Accordingly, 48 CFR parts 1801, 1808, 1811, 1813, 1816, 1819, 1835, 1842, 1851, and 1852 are amended as follows:

1. The authority citation for 48 CFR parts 1801, 1808, 1811, 1813, 1816, 1819, 1835, 1842, 1851, and 1852 continues to read as follows:

Authority: 42 U.S.C. 2473(c)(1)

PART 1801—FEDERAL ACQUISITION REGULATIONS SYSTEM

2. In section 1801.106, revise the chart in paragraph (1) to read as follows:

1801.106 OMB approval under the Paperwork Reduction Act.

(1) * * *

NFS Segment | OMB Control No.
1804.470 | 2700-0098
1804.74 | 2700-0097
1819 | 2700-0073
1819.72 | 2700-0078
1827 | 2700-0052
1831 | 2700-0080
1843 | 2700-0054
1843.71 | 2700-0094
NF 533 | 2700-0003
NF 1018 | 2700-0017

* * * * *

PART 1808—REQUIRED SOURCES OF SUPPLIES AND SERVICES

1808.002-72 [Amended]

3. In section 1808.002-72, amend paragraph (j) by removing “%” whenever it appears and adding “percent” in its place.

PART 1811—DESCRIBING AGENCY NEEDS

4. Add Subpart 1811.1 title to read as follows:

Subpart 1811.1—Selecting and Developing Requirements Documents

* * * * *

PART 1813—SIMPLIFIED ACQUISITION PROCEDURES

5. Revise section 1813.000 to read as follows:

1813.000 Scope of part.

FAR Part 13 and 1813 do not apply to NASA Research Announcements (NRA) and Announcements of Opportunity (AO). These acquisitions shall be conducted in accordance with the procedures in 1835.016-71 and 1872, respectively. However, awards resulting from NRAs or AOs that are to be made as procurement instruments, can be made as either a contract or a purchase order. When a purchase order is used, it must not exceed the simplified acquisition threshold and must include the appropriate clauses pertaining to data rights, key personnel requirements, and any other requirements determined necessary by the contracting officer. Contracting officers must determine whether obtaining the contractor's acceptance of the order is necessary (see FAR 13.302-3(a)).

PART 1816—TYPES OF CONTRACTS

1816.405-274 [Amended]

6. In section 1816.405-274, amend the first sentence of paragraph (g)(4) by removing the words “(f)(1) through (f)(3)” and adding the words “(g)(1) through (g)(3)” in its place.

1816.505 [Amended]

7. In section 1816.505, amend paragraph (b)(5) by removing the reference “1815.70” and adding “1815.7001” in its place.

1816.505-70 [Amended]

8. In section 1816.505-70, amend paragraph (b) by removing the reference “1816.404-270(a)” and adding the reference “1816.104-70(a)” in its place.

PART 1819—SMALL BUSINESS PROGRAMS

1819.7206 [Amended]

9. In section 1819.7206, amend the first sentence of paragraph (a) by removing the words “as a subfactor” from the end of the sentence.

PART 1831—CONTRACT COST PRINCIPLES AND PROCEDURES

1831.205-670 [Amended]

10. In section 1831.205-670, amend paragraphs (a) introductory text, (b) introductory text, (c)(1) and (2), (e), (f), and (g) by removing the word “shall” and adding “must” in its place.

1831.205-32 [Amended]

11. In section 1831.205-32, amend paragraphs (2) and (3) by removing the word “shall” and adding “must” in its place.

1831.205-70 [Amended]

12. Amend section 1831.205-70 by removing the word “shall” and adding “must” in its place.

1831.205-671 [Amended]

13. Amend section 1831.205-671 by removing the word “shall” and adding “must” in its place.

PART 1835—RESEARCH AND DEVELOPMENT CONTRACTING

14. In section 1835.016-71, revise paragraphs (d)(8)(i) and (ii) to read as follows:

1835.016-71 NASA Research Announcements.

* * * * *

(d) * * *

(8) * * *

(i) A copy of the NRA (This requirement may be waived in the case of a grant award at the discretion of the grant officer);

(ii) The results of the technical evaluation, including the total number of proposals received, the selection statement, and the listing of proposal(s) selected for funding (These requirements may be waived in the case of a grant award at the discretion of the grant officer if the purchase request specifically references the NRA number and states that the proposal forwarded for funding was selected under the NRA.);

* * * * *

PART 1842—CONTRACT ADMINISTRATION AND AUDIT SERVICES

15. In section 1842.7001, revise paragraph (c) to read as follows:

1842.7001 Observance of legal holidays.

* * * * *

(c) The clause may be used with its Alternate II in cost-reimbursement contracts when it is desired that administrative leave be granted contractor personnel in special circumstances, such as inclement weather or potentially hazardous conditions. This alternate may be appropriately modified for fixed-price contracts.

PART 1851—USE OF GOVERNMENT SOURCES BY CONTRACTORS

1851.102 [Amended]

16. In section 1851.102, amend paragraph (e)(3) at the end of the section by removing “NHB 4100.1” and adding “NPG 4100.1” in its place.

PART 1852—SOLICITATION PROVISIONS AND CONTRACT CLAUSES

1852.242-73 [Amended]

17. In section 1852.242-73, revise the date “(JULY 1997)” to read “(JULY 2000)” and amend paragraph (a) by removing the words “Policy Guidance” and adding the words “Procedures and Guidelines” in its place.

[FR Doc. 00-19269 Filed 7-28-00; 8:45 am]

BILLING CODE 7510-01-P